DEPARTMENT OF DEFENSE

Department of the Air Force

Intent To Prepare an Environmental Impact Statement (EIS) for the Formal Training Unit (FTU) and Main Operating Base 1 (MOB 1) for the Beddown of KC-46A Tanker Aircraft

AGENCY: Department of the Air Force, DOD.

ACTION: Notice of Intent.

SUMMARY: The Air Force is issuing this notice to advise the public of its intent to prepare an Environmental Impact Statement (EIS) for the Formal Training Unit (FTU) and Main Operating Base 1 (MOB 1) for the Beddown of KC-46A Tanker Aircraft. The EIS will assess the potential environmental consequences of bedding down KC-46A tanker aircraft, associated infrastructure and manpower of the FTU and MOB 1 at existing active duty Air Force installations within the continental United States and the no-action alternative.

The FTU squadron will consist of up to eight KC-46A aircraft with a mission to train personnel to safely and effectively fly, operate, and maintain the KC-46A aircraft. The MOB 1 will consist of 36 KC-46A aircraft with a mission to provide worldwide refueling, cargo, or aeromedical evacuation support.

The proposed basing alternatives for the FTU are:

1. 1. Altus Air Force Base (AFB), Oklahoma

1. 2. McConnell AFB, Kansas

The proposed basing alternatives for MOB 1 are:

1. 1. Altus AFB, Oklahoma

1. 2. Fairchild AFB, Washington

1. 3. Grand Forks AFB, North Dakota

1. 4. McConnell AFB, Kansas

Altus AFB and McConnell AFB are being considered for either the FTU or MOB 1 missions; no base would receive both the FTU and MOB 1 missions.

Scoping: In order to effectively define the full range of issues to be evaluated in the EIS, the Air Force is soliciting scoping comments from interested state and federal agencies and interested members of the public. The Air Force will hold a series of scoping meetings to further solicit input regarding the scope of the proposed action and alternatives.

1. Scoping meetings will be held in the local communities near the alternative basing locations. The scheduled dates, times, locations and addresses for the scoping meetings will also be published in local media a minimum of 15 days prior to the scoping meetings.

1. Dates: The Air Force intends to hold scoping meetings from 5:00 p.m. to 8:00 p.m. in the following communities on the following dates:

1. 1. Altus Air Force Base—April 9, 2013 at the Southwest Technology Center, 711 West Tamarack Road, Altus, OK

1. 2. McConnell Air Force Base—April 11, 2013 at the Eugene M. Hughes Metropolitan Complex, 5015 East 29th Street N, Wichita, KS

1. 3. Fairchild Air Force Base—April 16, 2013 at the Lincoln Center, 1316 North Lincoln Street, Spokane, WA

1. 4. Grand Forks Air Force Base—April 18, 2013 at the Ramada Inn, 1205 North 43rd Street, Grand Forks, ND

SUPPLEMENTARY INFORMATION: The project Web site provides more information on the EIS and can be used to submit scoping comments; scoping comments may also be submitted to the address below. As a convenience for comments submitted by mail, a comment form is available for download on the Web site. Comments will be accepted at any time during the environmental impact analysis process. However, to ensure the Air Force has sufficient time to consider public input in the preparation of the Draft EIS, scoping comments should be submitted to the Web site or the address listed below by May 17, 2013.

FOR FURTHER INFORMATION CONTACT: Ms. Jean Reynolds, United States Air Force, AFCEC/CZN Midwest Office, 507 Symington Drive, Scott AFB, Illinois 62225-5022; Phone:

Henry Williams Jr,
Acting Air Force Federal Register Liaison Officer.

[FR Doc. 2013-06840 Filed 3-25-13; 8:45 am]

BILLING CODE 5001-10-P